ENVIRONMENTAL PROTECTION AGENCY

[FRL-8211-9]

Notice of Public Hearing and Extension of Public Comment Period for the Proposed Reissuance of General NPDES Permits (GPs) for Aquaculture Facilities in Idaho Subject to Wasteload Allocations Under Selected Total Maximum Daily Loads (Permit Number IDG-13-0000), Cold Water Aquaculture Facilities in Idaho (Not Subject to Wasteload Allocations) (Permit Number IDG-13-1000), and Fish Processors Associated With Aquaculture Facilities in Idaho (Permit Number IDG-13-2000)

AGENCY: Environmental Protection Agency.

ACTION: Announcement of public hearing and extension of public comment period on three draft general NPDES permits for Idaho aquaculture facilities and associated fish processors.

SUMMARY: On June 19, 2006, EPA Region 10 proposed to reissue three general permits to cover aquaculture facilities and associated fish processors in Idaho. 71 FR 35269. On July 25, 2006, in response to requests from the regulated community, EPA extended the end of the public comment period from August 3 to August 18, 2006. 71 FR 42091. In response to further requests from the regulated community, EPA is scheduling a public hearing to receive oral comments on September 26, 2006; a short question and answer period will precede the formal hearing. EPA is also extending the public comment period to September 29, 2006.

DATES: A public hearing to receive oral comments on the permits will be held on Tuesday, September 26, 2006, at 7 p.m. at the KMTV Community Room, 1100 Blue Lakes Blvd. North, Twin Falls, Idaho. The end of the public comment period is now extended to September 29, 2006. Comments must be received or postmarked by that date.

Public Comment: Interested persons may submit oral comments at the September 26, 2006, public hearing or may submit written comments on the draft permits to the attention of Sharon Wilson at the address below. All comments should include the name, address, and telephone number of the commenter and a concise statement of comment and the relevant facts upon which it is based. Comments of either support or concern which are directed at specific, cited permit requirements are appreciated.

After the expiration date of the Public Notice on September 29, 2006; the Director, Office of Water and Watersheds, EPA Region 10, will make a final determination with respect to issuance of the general permits. The proposed requirements contained in the draft general permits will become final upon issuance if no significant comments are received during the public comment period.

ADDRESSES: Comments on the proposed General Permits should be sent to Sharon Wilson, Office of Water and Watersheds; USEPA Region 10; 1200 Sixth Avenue, OWW-130; Seattle, Washington 98101 or by e-mail to wilson.sharon@epa.gov.

FOR FURTHER INFORMATION, CONTACT: Carla Fromm, 208-378-5755, fromm.carla@epa.gov or Sharon Wilson, 206-553-0325, wilson.sharon@epa.gov Copies of the draft general permit and fact sheet may be downloaded from the EPA Region 10 Web site at http://yosemite.epa.gov/R10/WATER.NSF/NPDES+Permits/General+NPDES+Permits#Aquaculture. They are also available upon request from Audrey Washington at (206) 553-0523, or e-mailed to washington.audrey@epa.gov. For information on physical locations in Idaho and Seattle where the documents may be viewed, see the June 19, 2006, notice at 71 FR 35269.

Dated: August 15, 2006.
Michael F. Gearheard,
Director, Office of Water & Watersheds, Region 10, U.S. Environmental Protection Agency.

[FR Doc. E6-13862 Filed 8-21-06; 8:45 am]

BILLING CODE 6560-50-P